FEDERAL COMMUNICATIONS COMMISSION

47 CFR Part 64

[CC Docket No. 98-170; FCC 00-111]

Truth-in-Billing and Billing Format

AGENCY: Federal Communications Commission.

ACTION: Final rule; correction.

SUMMARY: On July 13, 2000 (65 FR 43251), the Commission published a document summarizing its order on reconsideration in the Truth-in Billing and Billing Format proceeding. In the order, the Commission granted, in part, petitions for reconsideration of the requirements that telephone bills highlight new service providers and prominently display inquiry contact numbers, denied all other petitions seeking reconsideration, and provided clarification of certain other issues. This document corrects paragraph 14 of the supplementary information contained in that summary.

DATES: Effective July 26, 2000.

FOR FURTHER INFORMATION CONTACT: Michele Walters, Associate Division Chief, Accounting Policy Division, Common Carrier Bureau (202) 418-7400.

SUPPLEMENTARY INFORMATION: A summary of this order was published in the Federal Register, FR Doc. 00-17719, 65 FR 43251, July 13, 2000. This document corrects the supplementary information contained in that summary by revising paragraph 14. In the supplementary information, page 43253, in the third column, “paragraph 14” is corrected to read:

“The majority of our existing truth-in-billing rules took effect on November 12, 1999. Certain carriers who met specific conditions were allowed to delay compliance with some of these requirements until April 1, 2000. In addition, certain other existing truth-in-billing rules are scheduled to take effect on April 1, 2000. Thus, absent action on our part, carriers would be bound by the existing rules as of April 1, despite the fact that today we amend certain aspects of those rules to become effective upon OMB approval. In view of these circumstances, we stay the portions of the existing § 64.2401 detailed below for which compliance was required as of April 1, 2000 until such time as today's amendments of § 64.2401 become effective. The portions of the existing § 64.2401 that are subject to this stay are: (1) That portion of § 64.2401(a)(2) that requires that each carrier's “telephone bill must provide clear and conspicuous notification of any change in service provider, including notification to the customer that a new provider has begun providing service,” (2) § 64.2401(a)(2)(ii) and (3) § 64.2401(d). The existing provisions of §§ 64.2401(a)(1), (a)(2)(i) and the portion of (a)(2) requiring “[w]here charges for two or more carriers appear on the same telephone bill, the charges must be separated by service provider,” will continue to take effect on April 1, 2000. Nothing in this order modifies the effective dates of existing §§ 64.2401(b) and (c). Upon their effective date, the rules, as amended, will supercede the existing rules. We take this action because we find that requiring carriers to comply with the existing rules for a short time prior to the effective date of today's amendments would be unduly burdensome and that it could result in the very sort of consumer confusion that today's amendments seek to avoid.”

Federal Communications Commission.
Magalie Roman Salas,
Secretary.

[FR Doc. 00-18883 Filed 7-25-00; 8:45 am]

BILLING CODE 6712-01-P